DEPARTMENT OF THE INTERIOR

National Park Service

[NPS-WASO-NAGPRA-NPS0033705; PPWOCRADN0-PCU00RP14.R50000]

Notice of Intent To Repatriate Cultural Items: Karshner Museum and Center for Culture & Arts, Puyallup, WA [Formerly the Karshner Museum] and the U.S. Department of the Interior, Bureau of Indian Affairs, Washington, DC

AGENCY: National Park Service, Interior.

ACTION: Notice.

SUMMARY: The Karshner Museum and Center for Culture & Arts (Karshner Center) and the U.S. Department of the Interior, Bureau of Indian Affairs (BIA), in consultation with the appropriate Indian Tribes or Native Hawaiian organizations, have determined that the cultural items listed in this notice meet the definition of sacred objects, objects of cultural patrimony, or unassociated funerary objects. Lineal descendants or representatives of any Indian Tribe or Native Hawaiian organization not identified in this notice that wish to claim these cultural items should submit a written request to the Karshner Center. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Karshner Center at the address in this notice by May 16, 2022.

FOR FURTHER INFORMATION CONTACT: Karen S. Higgins, Karshner Museum and Center for Culture & Arts, 309 4th Street NE, Puyallup, WA 98372, telephone (253) 841-8748, email higginsks@puyallup.k12.wa.us.

SUPPLEMENTARY INFORMATION: Notice is here given in accordance with the Native American Graves Protection and Repatriation Act (NAGPRA), 25 U.S.C. 3005, of the intent to repatriate cultural items under the control of the Karshner Museum and Center for Culture & Arts, Puyallup, WA, and the U.S. Department of the Interior, Bureau of Indian Affairs, Washington, DC, that meet the definition of sacred objects, objects of cultural patrimony, or unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In or before 1930, 19 sacred objects were separated from the Coastal Salish people. The items are one spirit stick in the shape of a spear, one cedar bark dress, one cedar bark headdress, one glass bottle containing red ochre mixed with fat, one shirt, 13 bone wedges [one of which is currently missing], and one stone pipe. Dr. Warner M. Karshner acquired the spirit stick (1930.01.1-233) from an unidentified individual in La Connor, WA, on the Swinomish Reservation in Skagit County, and in 1930, he donated it to the Karshner Museum, which he had founded that year. Sometime between 1913 and 1930, Mrs. Joe Billy (nee Louise Cassimer) gifted the cedar bark dress (1935.01.1-47) to Charles L. Judd. In 1935, Mr. Judd sold the dress to Dr. Karshner, who in turn donated it to the Karshner Museum. Sometime between 1913 and 1930, Mr. Judd acquired the headdress (1935.01.1-149) from the Coastal Salish First Nations Community of Saanich on Vancouver Island, British Columbia. Subsequently—most likely in 1935—Mr. Judd sold the cedar bark headdress to Dr. Karshner. In 1935, Dr. Karshner donated the cedar bark headdress to the Karshner Museum. Sometime between 1913 and 1930, Mr. Judd acquired a glass bottle containing red ochre mixed with fat (1935.01.1-228) from an unidentified individual in La Connor, Washington, on the Swinomish Reservation in Skagit County. In 1935, Mr. Judd sold the glass bottle to Dr. Karshner, who in turn donated it to the Karshner Museum. Sometime between 1913 and 1930, Mr. Judd acquired the shirt (1935.01.1-231) from an unidentified individual in La Connor, Washington, on the Swinomish Reservation in Skagit County. In 1935, Mr. Judd sold the shirt to Dr. Karshner, who in turn donated it to the Karshner Museum. Sometime between 1913 and 1930, Mr. Judd acquired four bone wedges (1935.01.1-414) from an “archaeological dig” at Weaverling Spit on Fidalgo Island, San Juan Islands, Skagit County. In 1935, Mr. Judd sold the bone wedges to Dr. Karshner, who in turn donated them to the Karshner Museum. In or before 1935, Dr. Karshner obtained a stone pipe bowl from San Juan Island, Skagit County (1935.01.1-492). In 1935, he donated the pipe bowl to the Karshner Museum. In 1935, Dr. Karshner acquired nine bone wedges (1935.01.1-493) from San Juan Island, Skagit County, WA, and donated them to the Karshner Museum.

The 19 cultural items described above are used by the Coastal Salish people of the Swinomish Indian Tribal Community [previously listed as Swinomish Indians of the Swinomish Reservation of Washington] in Siown ceremonies.

In or before 1935, one object of cultural patrimony was separated from the Coastal Salish people. The item is a wild goat hair blanket (1935.01.1-237). Sometime between 1913 and 1930, Charles L. Judd acquired the blanket from an unidentified individual in La Connor, Washington, on the Swinomish Reservation in Skagit County. In 1935, Mr. Judd sold the blanket to Dr. Karshner, who in turn donated it to the Karshner Museum.

In or before 1936, four unassociated funerary objects were removed from a grave on the Swinomish Reservation located in Skagit County, WA. The items are four worked stones (1936.01.1-214). In 1936, Dr. and Mrs. Karshner donated them to the Karshner Museum.

Determinations Made by the Karshner Museum and Center for Culture & Arts and the U.S. Department of the Interior, Bureau of Indian Affairs

Officials of the Karshner Museum and Center for Culture & Arts and the U.S. Department of the Interior, Bureau of Indian Affairs have determined that:

• Pursuant to 25 U.S.C. 3001(3)(C), the 19 cultural items described above are specific ceremonial objects needed by traditional Native American religious leaders for the practice of traditional Native American religions by their present-day adherents.

• Pursuant to 25 U.S.C. 3001(3)(D), the one cultural item described above has ongoing historical, traditional, or cultural importance central to the Native American group or culture itself, rather than property owned by an individual.

• Pursuant to 25 U.S.C. 3001(3)(B), the four cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the cultural items and the Swinomish Indian Tribal Community [previously listed as Swinomish Indians of the Swinomish Reservation of Washington].

Additional Requestors and Disposition

Lineal descendants or representatives of any Indian Tribe or Native Hawaiian organization not identified in this notice that wish to claim these cultural items should submit a written request with information in support of the claim to Karen S. Higgins, Karshner Museum and Center for Culture & Arts, 309 4th Street NE, Puyallup, WA 98372, telephone (253) 841-8748, email higginsks@puyallup.k12.wa.us, by May 16, 2022. After that date, if no additional claimants have come forward, transfer of control of the sacred objects, object of cultural patrimony, and unassociated funerary objects to the Swinomish Indian Tribal Community [previously listed as Swinomish Indians of the Swinomish Reservation of Washington] may proceed.

The Karshner Museum and Center for Culture & Arts and the U.S. Department of the Interior, Bureau of Indian Affairs are responsible for notifying the Swinomish Indian Tribal Community [previously listed as Swinomish Indians of the Swinomish Reservation of Washington] that this notice has been published.

Dated: April 7, 2022.
Melanie O'Brien,
Manager, National NAGPRA Program.

[FR Doc. 2022-08122 Filed 4-14-22; 8:45 am]

BILLING CODE 4312-52-P